DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Federal Insurance and Mitigation Administration, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of Williston, North Dakota
Docket No.: FEMA-B-1060
North Dakota | City of Williston | Sand Creek | Approximately 105 feet downstream of Riverside Drive West | +1,852
|  |  | Approximately 2.57 miles upstream of 11th Street | +1,941
* National Geodetic Vertical Datum.
+ North American Vertical Datum.
# Depth in feet above ground.
‸ Mean Sea Level, rounded to the nearest 0.1 meter.
ADDRESSES
City of Williston
Maps are available for inspection at 22 East Broadway, Williston, ND 58802.

Flooding source(s) | Location of referenced elevation | * Elevation in feet (NGVD) + Elevation in feet (NAVD) # Depth in feet above ground ‸ Elevation in meters (MSL) Modified | Communities affected
Greene County, Alabama, and Incorporated Areas
Docket No.: FEMA-B-1049
Boligee Canal | Approximately 1,372 feet downstream of County Road 81 | +117 | City of Boligee.
| Approximately 193 feet upstream of County Road 81 | +117
Tombigbee River | Approximately 2.97 miles upstream of I-20 | +117 | City of Boligee.
* National Geodetic Vertical Datum.
+ North American Vertical Datum.
# Depth in feet above ground.
‸ Mean Sea Level, rounded to the nearest 0.1 meter.
ADDRESSES
City of Boligee
Maps are available for inspection at 8 City Hall Circle, Boligee, AL 35443.
Glenn County, California, and Incorporated Areas
Docket No.: FEMA-B-1056
Butte Creek | Approximately 2,270 feet downstream of Aguas Frias Road | +105 | Unincorporated Areas of Glenn County.
| Just upstream of Aguas Frias Road | +108
Butte Creek (Outside of Levee) | Approximately 3,230 feet downstream of Aguas Frias Road | +97 | Unincorporated Areas of Glenn County.
| Just upstream of Aguas Frias Road | +97
* National Geodetic Vertical Datum.
+ North American Vertical Datum.
# Depth in feet above ground.
‸ Mean Sea Level, rounded to the nearest 0.1 meter.
ADDRESSES
Unincorporated Areas of Glenn County
Maps are available for inspection at 777 North Colusa Street, Willows, CA 95988.
Perry County, Illinois, and Incorporated Areas
Docket No.: FEMA-B-1060
Beaucoup Creek | Approximately 200 feet upstream of railroad at the east end of Cedar Point Lane | +407 | Unincorporated Areas of Perry County.
| Approximately 913 feet upstream of the confluence with Railroad Tributary | +416
* National Geodetic Vertical Datum.
+ North American Vertical Datum.
# Depth in feet above ground.
‸ Mean Sea Level, rounded to the nearest 0.1 meter.
ADDRESSES
Unincorporated Areas of Perry County
Maps are available for inspection at the Perry County Courthouse, 1 Public Square, Pinckneyville, IL 62274.
Schuyler County, Illinois, and Incorporated Areas
Docket No.: FEMA-B-1053
Illinois River | Approximately 0.4 mile downstream of the confluence with the La Moine River | +450 | Unincorporated Areas of Schuyler County, Village of Browning.
| Approximately 2.55 miles upstream of the confluence with Elm Creek | +452
* National Geodetic Vertical Datum.
+ North American Vertical Datum.
# Depth in feet above ground.
‸ Mean Sea Level, rounded to the nearest 0.1 meter.
ADDRESSES
Unincorporated Areas of Schuyler County
Maps are available for inspection at the Schuyler County Highway Department, 121 Henninger Drive, Rushville, IL 62681.
Village of Browning
Maps are available for inspection at the Village Hall, 501 Main Street, Browning, IL 62624.
St. Landry Parish, Louisiana, and Incorporated Areas
Docket No.: FEMA-B-1040
Bayou Belleview | Approximately 330 feet downstream of George Street | +68 | Unincorporated Areas of St. Landry Parish.
| Approximately 125 feet upstream of Gulino Street | +70
Bayou Tesson | Approximately 450 feet upstream of Caddo Street | +68 | City of Opelousas, Unincorporated Areas of St. Landry Parish.
| Approximately 100 feet upstream of Park Street | +70
Flooding Effects of Unnamed Canal/Ditch | Approximately 350 feet east of Palm Street | +25 | Town of Port Barre.
| Approximately 1,800 feet west of State Highway 741 and 25 feet north of U.S. Route 190 | +25
* National Geodetic Vertical Datum.
+ North American Vertical Datum.
# Depth in feet above ground.
‸ Mean Sea Level, rounded to the nearest 0.1 meter.
ADDRESSES
City of Opelousas
Maps are available for inspection at 318 North Court Street, Opelousas, LA 70570.
Town of Port Barre
Maps are available for inspection at 504 Saizan Avenue, Port Barre, LA 70577.
Unincorporated Areas of St. Landry Parish
Maps are available for inspection at 308 West Bloch Street, Opelousas, LA 70571.
Lincoln County, Nevada, and Incorporated Areas
Docket Nos.: FEMA-B-1054 and FEMA-B-107
Clover Creek | Approximately 280 feet upstream of the confluence with Meadow Valley Wash (Near Caliente) | +4,409 | City of Caliente, Unincorporated Areas of Lincoln County.
| Approximately 2.4 miles upstream of the confluence with Meadow Valley Wash (Near Caliente) | +4,473
Meadow Valley Wash (Near Caliente) | Approximately 0.73 mile downstream of Union Pacific Railroad | #2 | City of Caliente, Unincorporated Areas of Lincoln County.
| Approximately 0.73 mile downstream of Union Pacific Railroad | +4,329
| Approximately 1,540 feet downstream of Union Pacific Railroad | #3
| Approximately 674 feet upstream of U.S. Route 93 | +4,438
Meadow Valley Wash (Near Ursine) | Approximately 1.0 mile downstream of North Eagle Valley Road | +5,543 | Unincorporated Areas of Lincoln County.
| Approximately 1,150 feet upstream of North Eagle Valley Road | +5,607
* National Geodetic Vertical Datum.
+ North American Vertical Datum.
# Depth in feet above ground.
‸ Mean Sea Level, rounded to the nearest 0.1 meter.
ADDRESSES
City of Caliente
Maps are available for inspection at 100 Depot Avenue, Caliente, NV 89008.
Unincorporated Areas of Lincoln County
Maps are available for inspection at the Lincoln County Planning and Zoning Department, 181 Main Street, Suite 107, Pioche, NV 89043.
Curry County, New Mexico, and Incorporated Areas
Docket No.: FEMA-B-1021
Northeast Drain | Approximately 5,276 feet downstream of Humphry Road | +4,216 | City of Clovis, Unincorporated Areas of Curry County.
| At the confluence with West 2nd Street Drain | +4,217
| Approximately 645 feet upstream of Schepps Boulevard | +4,225
| Just upstream of Merlene Boulevard | +4,236
Thomas Ditch 1 | Approximately at Brady Avenue | +4,262 | Unincorporated Areas of Curry County.
| Approximately at Burlington Northern Santa Fe Railroad | +4,280
West Second Street Drain | At the confluence with Northeast Drain | +4,217 | Unincorporated Areas of Curry County.
| Approximately 268 feet upstream of Norris Road | +4,232
* National Geodetic Vertical Datum.
+ North American Vertical Datum.
# Depth in feet above ground.
‸ Mean Sea Level, rounded to the nearest 0.1 meter.
ADDRESSES
City of Clovis
Maps are available for inspection at 321 Connelly Street, Clovis, NM 88101.
Unincorporated Areas of Curry County
Maps are available for inspection at 321 Connelly Street, Clovis, NM 88101.
San Juan County, New Mexico, and Incorporated Areas
Docket No.: FEMA-B-1028
Animas River | At the confluence with the San Juan River | +5,256 | Unincorporated Areas of San Juan County.
| Approximately 1,200 feet downstream of Murray Drive/U.S. Route 64 | +5,267
Bloomfield Canyon Creek | Approximately 2,232 feet upstream of East Broadway Avenue | +5,436 | City of Bloomfield, Unincorporated Areas of San Juan County.
| At the confluence with Bloomfield Canyon Creek Tributary | +5,545
Bloomfield Canyon Creek Tributary | At the confluence with Bloomfield Canyon Creek | +5,545 | City of Bloomfield, Unincorporated Areas of San Juan County.
| Approximately 2,366 feet upstream of Unnamed Dirt Road Bridge | +5,737
San Juan River | Approximately 1,709 feet downstream of Bisti Highway | +5,245 | Unincorporated Areas of San Juan County.
| Approximately 9,367 feet upstream of the confluence with the Animas River | +5,269
* National Geodetic Vertical Datum.
+ North American Vertical Datum.
# Depth in feet above ground.
‸ Mean Sea Level, rounded to the nearest 0.1 meter.
ADDRESSES
City of Bloomfield
Maps are available for inspection at 915 North 1st Street, Bloomfield, NM 87413.
Unincorporated Areas of San Juan County
Maps are available for inspection at 209 South Oliver Drive, Aztec, NM 87410.
Ottawa County, Oklahoma, and Incorporated Areas
Docket No.: FEMA-B-1049
Belmont Run | Approximately 1,317 feet upstream of 30th Avenue | +803 | City of Miami, Town of North Miami, Unincorporated Areas of Ottawa County.
| Approximately 1,288 feet upstream of Newman Road | +805
Fairgrounds Branch | Approximately 700 feet upstream of E Street | +774 | Unincorporated Areas of Ottawa County.
| Approximately 0.58 mile upstream of E Street | +774
Neosho River | Just upstream of E Street | +775 | Unincorporated Areas of Ottawa County.
| Approximately 0.93 mile upstream of State Highway 69 | +776
Warren Branch | Approximately 434 feet upstream of Main Street | +869 | Town of Peoria, Unincorporated Areas of Ottawa County.
| Approximately 1,826 feet upstream of Modoe Street | +885
Wyandotte Ditch | Approximately 1,320 feet downstream of Main Street | +757 | Town of Wyandotte.
| Approximately 904 feet upstream of South 650 Road | +789
* National Geodetic Vertical Datum.
+ North American Vertical Datum.
# Depth in feet above ground.
‸ Mean Sea Level, rounded to the nearest 0.1 meter.
ADDRESSES
City of Miami
Maps are available for inspection at the Civic Center, 129 5th Street Northwest, Miami, OK 74354.
Town of North Miami
Maps are available for inspection at the Ottawa County Courthouse, 102 East Central Avenue, Suite 202, Miami, OK 74354.
Town of Peoria
Maps are available for inspection at the Ottawa County Courthouse, 102 East Central Avenue, Suite 202, Miami, OK 74354.
Town of Wyandotte
Maps are available for inspection at City Hall, 14 North Main Street, Wyandotte, OK 74370.
Unincorporated Areas of Ottawa County
Maps are available for inspection at the County Courthouse, 102 East Central Avenue, Suite 202, Miami, OK 74354.
Teton County, Wyoming, and Incorporated Areas
Docket No.: FEMA-B-7774
Flat Creek | Approximately 5,100 feet south of the intersection of Wilson Canyon Drive and U.S. Route 89 | *5,974 | Unincorporated Areas of Teton County.
| Approximately 1,350 feet downstream of High School Road | *6,107
* National Geodetic Vertical Datum.
+ North American Vertical Datum.
# Depth in feet above ground.
‸ Mean Sea Level, rounded to the nearest 0.1 meter.
ADDRESSES
Unincorporated Areas of Teton County
Maps are available for inspection at the Teton County Administration Building, 200 South Willow Street, Jackson, WY 83001.

(Catalog of Federal Domestic Assistance No. 97.022, “Flood Insurance.”)

Dated: July 19, 2010.
Sandra K. Knight,
Deputy Federal Insurance and Mitigation Administrator, Mitigation, Department of Homeland Security, Federal Emergency Management Agency.

[FR Doc. 2010-18195 Filed 7-23-10; 8:45 am]

BILLING CODE 9110-12-P